DEPARTMENT OF ENERGY

Federal Energy Regulatory Commission

Combined Notice of Filings

Take notice that the Commission has received the following Natural Gas Pipeline Rate and Refund Report filings:

Docket Numbers: RP21-643-000.

Applicants: Transcontinental Gas Pipe Line Company, LLC.

Description: § 4(d) Rate Filing: Rate Schedules LSS and SS-2 Tracker Filing eff 4/1/2021 to be effective 4/1/2021.

Filed Date: 3/24/21.

Accession Number: 20210324-5005.

Comments Due: 5 p.m. ET 4/5/21.

Docket Numbers: RP21-644-000.

Applicants: Transcontinental Gas Pipe Line Company, LLC.

Description: § 4(d) Rate Filing: Rate Schedule S-2 Tracker Filing (ASA/PCB) eff 12/1/2020 Correction to be effective 12/1/2020.

Filed Date: 3/24/21.

Accession Number: 20210324-5071.

Comments Due: 5 p.m. ET 4/5/21.

Docket Numbers: RP21-645-000.

Applicants: Iroquois Gas Transmission System, L.P.

Description: § 4(d) Rate Filing: 3.24.21 Negotiated Rates—Castleton Commodities Merchant Trading L.P. R-4010-29 to be effective 4/1/2021.

Filed Date: 3/24/21.

Accession Number: 20210324-5080.

Comments Due: 5 p.m. ET 4/5/21.

Docket Numbers: RP21-646-000.

Applicants: Equitrans, L.P.

Description: Tariff Cancellation: Terminated Negotiated Rate Agreement—EQT Energy ITS to be effective 4/1/2021.

Filed Date: 3/24/21.

Accession Number: 20210324-5165.

Comments Due: 5 p.m. ET 4/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2021.
Nathaniel J. Davis, Sr.,
Deputy Secretary.

[FR Doc. 2021-06620 Filed 3-30-21; 8:45 am]

BILLING CODE 6717-01-P